DEPARTMENT OF JUSTICE

Drug Enforcement Administration

Agency Information Collection Activities: Proposed Collection; Comment Requested

ACTION: Notice of Information Collection Under Review; Extension of a currently approved collection; Application for Registration (DEA Form 363); and Application for Registration Renewal (DEA Form 363a).

The Department of Justice, Drug Enforcement Administration has submitted the following information collection request for review and clearance in accordance with the Paperwork Reduction Act of 1995. This proposed information is published to obtain comments from the public and affected agencies. Comments are encouraged and will be accepted for “sixty days” until January 30, 2001.

If you have additional comments, suggestions, or need a copy of the proposed information collection instrument with instructions or additional information, please contact Mr. James A. Pacella, 202-307-7250, Registration and Program Support Section, Office of Diversion Control, Drug Enforcement Administration, U.S. Department of Justice, Washington, DC 20537.

Written comments and suggestions from the public and affected agencies concerning the proposed collection of information should address one or more of the following four points:

1. Evaluate whether the proposed collection of information is necessary for the proper performance of the function of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

Overview of This Information

1. Type of information collection: Extension of a currently approved collection.

2. The title of the form/collection: Application for Registration (DEA Form 363); and Application for Registration Renewal (DEA Form 363a).

3. The agency form number, if any, and the applicable component of the Department sponsoring the collection: Form numbers: DEA Form 363 and DEA Form 363a. Applicable component of the Department sponsoring the collection: Office of Diversion Control, Drug Enforcement Administration, U.S. Department of Justice.

4. Affected public who will be asked or required to respond, as well as a brief abstract: Primary: Business or other for-profit. Other: Not-for-profit institutions and State, Local or Tribal Government. Abstract: Practitioners who dispense narcotic drugs to individuals for maintenance or detoxification treatment must register with the DEA under the Narcotic Addict Treatment Act of 1974. Registration is needed for control measures and is used to prevent diversion.

5. An estimate of the total number of respondents and the amount of time estimated for an average respondent to respond/reply: 1,114 respondents, .5 hours per response. A respondent will take an estimate of 30 minutes to complete each form.

6. An estimate of the total public burden (in hours) associated with the collection: 557 annual burden hours.

Public comments on this proposed information collection are strongly encouraged.

If additional information is required contact: Mr. Robert B. Briggs, Clearance Officer, United States Department of Justice, Information Management and Security Staff, Justice Management Division, Suite 1220, National Place, 1331 Pennsylvania Avenue, NW., Washington, DC 20530.

Dated: November 27, 2000.
Robert B. Briggs,
Department Clearance Officer, Department of Justice.

[FR Doc. 00-30611 Filed 11-30-00; 8:45 am]

BILLING CODE 4410-09-M